DEPARTMENT OF THE INTERIOR

Office of the Secretary

[Docket No. DOI-2025-0005; 256D0102DM; DS6CS00000; DLSN00000.000000; DX6CS25]

Regulatory Reform—Request for Information

AGENCY: Office of the Secretary, Interior.

ACTION: Request for information; reopening of comment period.

SUMMARY: On May 20, 2025, the United States Department of the Interior (DOI), Office of the Secretary, published in the Federal Register a document entitled “DOI Regulatory Reform RFI” and invited public comments to assist in identifying existing regulations, guidance, reporting requirements, and other regulatory obligations that can be modified or repealed, consistent with applicable law, to ensure that DOI administrative actions do not undermine the national interest and that DOI achieves a meaningful reduction in regulatory and administrative burdens while continuing to meet statutory obligations, advance American energy independence, and ensure the responsible stewardship of the nation's public lands and resources. In order to provide additional opportunity for the public to further consider the RFI and submit comments, DOI has determined that reopening the comment period to have it open indefinitely is appropriate. Interior will continually review written input to determine whether additional regulations, guidance, or reporting requirements should be targeted for review and considered for suspension, revision, or rescission.

DATES: The comment period for the document entitled “DOI Regulatory Reform RFI” published on May 20, 2025 (90 FR 21504), is reopened and will remain opened indefinitely. No deadline for the receipt of comments on this effort has been established at this time; Interior will review comments on an ongoing basis.

ADDRESSES: Interested persons should submit ideas for cutting existing regulations within the jurisdiction of DOI via https://www.regulations.gov/deregulation and are also encouraged to submit comments, identified by “DOI Regulatory Reform RFI,” by any of the following methods:

Federal eRulemaking Portal: https://www.regulations.gov. Follow the instructions for submitted comments to DOI-2025-0005, which is the docket established for this RFI.

Email: Interior.RegulatoryInfo@doi.gov. Include “DOI Regulatory Reform RFI” in the subject line of the message.

Mail: U.S. Department of the Interior, Office of the Solicitor, 1849 C Street NW, Washington, DC 20240.

All comments received will be posted without change to https://www.regulations.gov, including any personal information provided.

FOR FURTHER INFORMATION CONTACT: Jacob Tyner, U.S. Department of the Interior, Office of the Solicitor, 1849 C Street NW, Washington, DC 20240. Telephone: (202) 208-3100. Email: Interior.RegulatoryInfo@doi.gov.

SUPPLEMENTARY INFORMATION: The purpose of the May 20, 2025 RFI (90 FR 21504) is to inform the public and gather feedback on potential regulatory reform efforts associated with Executive Order 14154, “Unleashing American Energy” (90 FR 8353; Jan. 29, 2025), Executive Order 14192, “Unleashing Prosperity through Deregulation” (90 FR 9065; Feb. 6, 2025), and Executive Order 14219, “Ensuring Lawful Regulation and Implementing the President's ‘Department of Government Efficiency' Deregulatory Agenda” (90 FR 10583; Feb. 25, 2025). The information received through the RFI will help inform the response of the DOI to Administration directives, specifically those which call on Federal agencies to identify and review existing regulations, guidance, and reporting requirements that impose undue burdens on energy development, exceed statutory authority, or are otherwise inconsistent with the Administration's policy goals. The information received will also inform the development of action plans by DOI to suspend, revise, or rescind such requirements as expeditiously as possible and consistent with applicable law. A reopening of the comment period will provide additional opportunity for the public to consider the RFI and prepare comments to address the questions posed therein. Therefore, DOI is reopening the comment period for the RFI for an indefinite period. No deadline is established at this time and comments will be reviewed on an ongoing basis.

Whitney N. Leets,
Counselor, Office of Policy Management and Budget.

[FR Doc. 2025-16327 Filed 8-25-25; 8:45 am]

BILLING CODE 4334-CC-P